DEPARTMENT OF VETERANS AFFAIRS

Public Availability of the Department of Veterans Affairs Fiscal Year (FY) 2021 Service Contract Inventory Analysis Report

AGENCY: Department of Veterans Affairs.

ACTION: Notice.

SUMMARY: In accordance with Section 743 of Division C of the Consolidated Appropriations Act of 2010 the Department of Veterans Affairs (VA) is notifying the public of the availability of the VA FY 2021 Service Contract Inventory Analysis Report and the associated inventory. The report discusses the methodology, analysis, and special interest functions studied from the FY 2021 inventory. The inventory provides information on service contracts over $150,000. VA developed the analysis report and the inventory in accordance with guidance the Office of Management and Budget's Office of Federal Procurement Policy (OFPP) issued on November 5, 2010, and updated on December 19, 2011. OFPP's guidance is available at https://www.whitehouse.gov/omb/management/office-federal-procurement-policy. VA posted the VA FY 2021 Service Contract Inventory Analysis Report and a link to the associated inventory is on the VA Office of Acquisition and Logistics website at https://www.va.gov/oal/business/pps/scaInventory.asp.

FOR FURTHER INFORMATION CONTACT: Questions regarding the service contract inventory may be directed to Forrest Browne, Procurement Policy and Warrant Management Service (PPS) via email at VA.Procurement.Policy@va.gov or by telephone at 202-632-9677. (This is not a toll-free number.)

Signing Authority

Denis McDonough, Secretary of Veterans Affairs, signed and approved this document on October 11, 2024, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2024-24159 Filed 10-17-24; 8:45 am]

BILLING CODE 8320-01-P